CONSUMER PRODUCT SAFETY COMMISSION

[Docket No. CPSC-2012-0026]

Proposed Extension of Approval of Information Collection; Comment Request; Requirements Pertaining to Third Party Conformity Assessment Bodies

AGENCY: Consumer Product Safety Commission.

ACTION: Notice.

SUMMARY: Pursuant to the Paperwork Reduction Act of 1995 (PRA), the Consumer Product Safety Commission (CPSC) requests comment on a proposed extension of approval of information collection regarding the requirements pertaining to third party conformity assessment bodies. CPSC will consider all comments received in response to this notice before requesting an extension of this collection of information from the Office of Management and Budget (OMB).

DATES: Submit written or electronic comments on the collection of information by July 5, 2022.

ADDRESSES: You may submit comments, identified by Docket No. CPSC-2012-0026, by any of the following methods:

Electronic Submissions: Submit electronic comments to the Federal eRulemaking Portal at: https://www.regulations.gov. Follow the instructions for submitting comments. CPSC does not accept comments submitted by electronic mail (email), except as described below. CPSC encourages you to submit electronic comments by using the Federal eRulemaking Portal, as described above.

Mail/hand delivery/courier/confidential Written Submissions: Submit comments by mail, hand delivery, or courier to: Division of the Secretariat, Consumer Product Safety Commission, 4330 East-West Highway, Bethesda, MD 20814; telephone: (301) 504-7479. If you wish to submit confidential business information, trade secret information, or other sensitive or protected information that you do not want to be available to the public, you may submit such material by mail, hand delivery, or courier, or you may email it to: cpsc-os@cpsc.gov.

Instructions: All submissions must include the agency name and docket number. CPSC may post all comments without change, including any personal identifiers, contact information, or other personal information provided, to: https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2012-0026, into the “Search” box, and follow the prompts.

FOR FURTHER INFORMATION CONTACT: Cynthia Gillham, Consumer Product Safety Commission, 4330 East-West Highway, Bethesda, MD 20814; (301) 504-7991, or by email to: cgillham@cpsc.gov.

SUPPLEMENTARY INFORMATION: CPSC seeks to renew the following currently approved collection of information:

Title: Requirements Pertaining to Third Party Conformity Assessment Bodies.

OMB Number: 3041-015.6

Type of Review: Renewal of collection.

Frequency of Response: On occasion.

Affected Public: Third party conformity assessment bodies seeking acceptance of accreditation or continuing accreditation.

Estimated Burden

• New Applications From Third Party Conformity Assessment Bodies

○ We estimate approximately 40 new applications from independent third party conformity assessment bodies will be submitted per year, each taking an estimated 75 minutes to complete the initial application materials, with an estimated burden of 50 hours per year.

○ We estimate approximately 3 firewalled third party conformity assessment bodies will apply per year, each taking an estimated 8.4 hours to complete the initial application materials, with an estimated burden of 25.2 hours per year.

○ We estimate approximately 4 governmental third party conformity assessment bodies will apply per year, each taking an estimated 3 hours to complete the initial application materials, with an estimated burden of 12 hours per year.

• Third Party Conformity Assessment Bodies Updating Information

○ We estimate that approximately 1 percent of third party conformity assessment bodies will take 15 minutes to update information for only those elements of information that need updating, with an estimated burden of 1.5 hours per year.

• Third Party Conformity Assessment Bodies That Subcontracts Out Tests

○ We estimate that approximately 25 percent of party conformity assessment bodies subcontract test and it will take 7 minutes to comply with the subcontracting recordkeeping requirement for an estimated 76,410 subcontracted tests, with an estimated of approximately 8,915 hours per year.

• Third Party Conformity Assessment Bodies That Voluntarily Withdraw

○ We estimate approximately 8 third party conformity assessment bodies will withdraw yearly, taking an estimated 30 minutes to create and submit the required documentation, with an estimated burden of 4 hours per year.

• Third Party Conformity Assessment Bodies That Are Audited

○ We estimate that approximately 253 independent third party conformity assessment bodies each year will be audited, taking approximately 4 minutes to resubmit their Form 223 and accreditation certificate, with an estimated burden of 17 hours per year.

○ We estimate that approximately 21 firewalled third party conformity assessment bodies will spend 226 minutes collecting and preparing the documentation to submit for an audit, with estimated burden of about 79 hours per year.

○ We estimate approximately 30 governmental third party conformity assessment bodies will spend 1 hour collecting and preparing the documentation to submit for an audit, with estimated burden of 30 hours per year.

• Total Annual Burden

Adding all the annual estimated burden hours results in a total of 9,134 hours for third party conformity assessment bodies per year. At $40.35 per hour, the total cost of the recordkeeping associated with the Requirements Pertaining to Third Party Conformity Assessment Bodies is approximately $368,557 (9,134 hours × $40.35 = $368,557).

General Description of Collection: On March 12, 2013, the Commission issued a rule Pertaining to Third Party Conformity Assessment Bodies (78 FR 15836). The rule established the general requirements concerning third party conformity assessment bodies, such as the requirements and procedures for CPSC acceptance of the accreditation of a third party conformity assessment body, and the rule prescribed adverse actions that might be imposed against CPSC-accepted third party conformity assessment bodies. The rule also amended the audit requirements for third party conformity assessment bodies and amended the CPSC's regulation on inspections. CPSC's requirements pertaining to third party conformity assessment bodies can be found at 16 CFR part 1112.

Request for Comments

CPSC solicits written comments from all interested persons about the proposed collection of information. CPSC specifically solicits information relevant to the following topics:

—Whether the collection of information described is necessary for the proper performance of CPSC's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Alberta E. Mills,
Secretary, Consumer Product Safety Commission.

[FR Doc. 2022-09646 Filed 5-4-22; 8:45 am]

BILLING CODE 6355-01-P